DEPARTMENT OF TRANSPORTATION

Federal Aviation Administration

14 CFR Part 39

[Docket No. FAA-2006-24807; Directorate Identifier 2005-SW-41-AD; Amendment 39-14603; AD 2006-10-19]

RIN 2120-AA64

Airworthiness Directives; Eurocopter France Model EC130 B4 Helicopters

AGENCY: Federal Aviation Administration, DOT.

ACTION: Final rule; request for comments.

SUMMARY: This amendment adopts a new airworthiness directive (AD) for Eurocopter France (Eurocopter) Model EC130 B4 helicopters. This action requires inspecting the throttle twist grip (twist grip) assembly for any foreign body (chip or debris), any rotating micro-switch, and any micro-switch roller that does not move freely. If any unairworthy condition is found, this action requires that it be corrected before further flight. This amendment is prompted by two reports of a twist grip assembly jamming in the “IDLE” position. The actions specified in this AD are intended to detect and prevent jamming of the twist grip assembly, which, if present, could keep the engine from operating above idle speed and result in subsequent loss of control of the engine power of the helicopter.

DATES: Effective July 27, 2006.

Comments for inclusion in the Rules Docket must be received on or before August 11, 2006.

ADDRESSES: Use one of the following addresses to submit comments on this AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: (202) 493-2251; or

• Hand Delivery: Room PL-401 on the plaza level of the Nassif Building, 400 Seventh Street, SW., Washington, DC, between 9 a.m. and 5 p.m., Monday through Friday, except Federal holidays.

You may get the service information identified in this AD from American Eurocopter Corporation, 2701 Forum Drive, Grand Prairie, Texas 75053-4005, telephone (972) 641-3460, fax (972) 641-3527.

Examining the Docket

You may examine the docket that contains the AD, any comments, and other information on the Internet at http://dms.dot.gov, or in person at the Docket Management System (DMS) Docket Offices between 9 a.m. and 5 p.m., Monday through Friday, except Federal holidays. The Docket Office (telephone (800) 647-5227) is located on the plaza level of the Department of Transportation Nassif Building at the street address stated in the ADDRESSES section. Comments will be available in the AD docket shortly after the DMS receives them.

FOR FURTHER INFORMATION CONTACT: Ed Cuevas, Aviation Safety Engineer, FAA, Rotorcraft Directorate, Safety Management Group, Fort Worth, Texas 76193-0111, telephone (817) 222-5355, fax (817) 222-5961.

SUPPLEMENTARY INFORMATION: This amendment adopts a new AD for Eurocopter Model EC130 B4 helicopters. This action requires, within 30 hours time-in-service (TIS), unless accomplished during the previous 100-hour TIS or annual inspection, inspecting the twist grip assembly for any foreign body (chip or debris), any rotating micro-switch, and any micro-switch roller that does not move freely. If any unairworthy condition is found, this action requires that it be corrected before further flight. This amendment is prompted by reports of two incidents in which a twist grip assembly jammed in the “IDLE” position. Analyses conducted by the manufacturer revealed that a chip was caught between the roller of the “FLIGHT” micro-switch and the cam in one of the reported incidents, and marks on the cam indicated that debris had been present in the second incident. This condition, if not detected, could result in jamming of the twist grip assembly, which, if present, could keep the engine from operating above idle speed and result in subsequent loss of control of the engine power of the helicopter.

The Direction Generale de L'Aviation Civile (DGAC), the airworthiness authority for France, notified the FAA that an unsafe condition may exist on Eurocopter Model EC130 B4 helicopters before embodiment of MOD 073773 fitted with a twist grip assembly, part number (P/N) 350A27-5209-00, P/N 350A27-5209-01, or P/N 350A27-5209-02, installed. The DGAC advises of two reports of twist grip assembly jamming in the “IDLE” position.

Eurocopter has issued Alert Telex No. 05A003, dated June 30, 2005, which specifies an initial and repetitive functional checks of the twist grip assembly on Model EC130 B4 helicopters. The DGAC classified this alert telex as mandatory and issued AD No. F-2005-145, dated August 17, 2005, to ensure the continued airworthiness of these helicopters in France.

This helicopter model is manufactured in France and is type certificated for operation in the United States under the provisions of 14 CFR 21.29 and the applicable bilateral agreement. Pursuant to the applicable bilateral agreement, the DGAC has kept the FAA informed of the situation described above. The FAA has examined the findings of the DGAC, reviewed all available information, and determined that AD action is necessary for products of this type design that are certificated for operation in the United States. This AD requires an “inspection” rather than a “functional check” required by the DGAC AD and does not allow this inspection to be performed by a pilot. Further, the DGAC AD requires repetitive inspections at intervals of 110 hours TIS. This AD does not require those repetitive inspections because a functional check of the twist grip assembly is now a part of the annual or 100-hour TIS helicopter inspection made effective by an amendment to the maintenance instructions in the maintenance manual at AMM Task 76-12-00, 6-1.

This unsafe condition is likely to exist or develop on other helicopters of the same type design. Therefore, this AD is being issued to detect and prevent jamming of the twist grip assembly, which, if present, could keep the engine from operating above idle speed and result in subsequent loss of control of the engine power of the helicopter. This AD requires, within 30 hours TIS, unless accomplished during the previous 100-hour TIS or 12-month inspection, inspecting the twist grip assembly for any foreign body (chip or debris), any rotating micro-switch, and any micro-switch roller that does not move freely. If any unairworthy condition is found, this action requires that it be corrected before further flight. The short compliance time involved is required because the previously described critical unsafe condition can adversely affect the controllability of the helicopter. Therefore, the actions described previously are required in a very short time interval and this AD must be issued immediately.

Since a situation exists that requires the immediate adoption of this regulation, it is found that notice and opportunity for prior public comment hereon are impracticable, and that good cause exists for making this amendment effective in less than 30 days.

We estimate that this AD will affect 46 helicopters and, assuming that no micro-switches will need to be replaced, inspecting the twist grip assembly and removing any chip, if present, will take approximately 0.25 work hours to accomplish at an average labor rate of $80 per work hour. Based on these figures, the total estimated cost impact of the AD on U.S. operators is $920.

Comments Invited

This AD is a final rule that involves requirements that affect flight safety and was not preceded by notice and an opportunity for public comment; however, we invite you to submit any written data, views, or arguments regarding this AD. Send your comments to an address listed under ADDRESSES. Include “Docket No. FAA-2006-24807; Directorate Identifier 2005-SW-41-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket Web site, you can find and read the comments to any of our dockets, including the name of the individual who sent the comment. You may review the DOT's complete Privacy Act Statement in the Federal Register published on April 11, 2000 (65 FR 19477-78), or you may visit http://dms.dot.gov.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2006-10-19 Eurocopter France: Amendment 39-14603. Docket No. FAA-2006-24807; Directorate Identifier 2005-SW-41-AD.

Applicability: Model EC130 B4 helicopters, with a throttle twist grip (twist grip) assembly, part number (P/N) 350A27-5209-00, P/N 350A27-5209-01, or P/N 350A27-5209-02, installed, certificated in any category.

Compliance: Required as indicated, unless accomplished during the previous 100 hour time-in-service (TIS) or annual inspection.

To detect jamming of the twist grip assembly, which could keep the engine from operating above idle speed and result in subsequent loss of control of the engine power of the helicopter, accomplish the following:

(a) Within 30 hours TIS, access the twist grip assembly and inspect the cam and micro-switch body and rollers for:

(1) Any foreign chip or debris;

(2) Any friction point while turning the twist grip assembly from “Flight” to “Idle” position;

(3) Any rotating micro-switch body; and

(4) Any micro-switch roller that does not turn freely.

(b) If you find any chip or debris, remove it; if you find a friction point, a rotating micro-switch body, a binding micro-switch roller or any other unairworthy part, repair or replace the part before further flight.

Note 1: Eurocopter Alert Telex No. 05A003, dated June 30, 2005, pertains to the subject of this AD. AMM Task 76-12-00, 6-1, dealing with a repetitive functional check of the twist grip assembly, has been inserted into the current maintenance instructions and is now part of the annual or 100-hour inspection.

(c) To request a different method of compliance or a different compliance time for this AD, follow the procedures in 14 CFR 39.19. Contact the Manager, Safety Management Group, Rotorcraft Directorate, FAA, ATTN: Ed Cuevas, Aviation Safety Engineer, FAA, Rotorcraft Directorate, Safety Management Group, Fort Worth, Texas 76193-0111, telephone (817) 222-5355, fax (817) 222-5961, for information about previously approved alternative methods of compliance.

(d) This amendment becomes effective on June 27, 2006.

Note 2: The subject of this AD is addressed in Direction Generale de L'Aviation Civile (France) AD No. F-2005-145, dated August 17, 2005.

Issued in Fort Worth, Texas, on June 1, 2006.
David A. Downey,
Manager, Rotorcraft Directorate, Aircraft Certification Service.

[FR Doc. 06-5241 Filed 6-9-06; 8:45 am]

BILLING CODE 4910-13-P